ENVIRONMENTAL PROTECTION AGENCY

[FRL-8033-1]

Science Advisory Board Staff Office; Notification of a Public Meeting of the Science Advisory Board

AGENCY: Environmental Protection Agency (EPA).

ACTION: Notice.

SUMMARY: The EPA Science Advisory Board (SAB) Staff Office announces a public meeting of the U.S. EPA Science Advisory Board (SAB).

DATES: A public meeting of the EPA SAB will be held on March 2, 2006 from 8:30 a.m. to approximately 5 p.m. eastern time and on March 3, 2006 from 8:30 a.m. to approximately 3 p.m. eastern time.

ADDRESSES: The meeting will be held at the U.S. EPA Science Advisory Board Staff office, 1025 F Street, NW., Washington, DC.

FOR FURTHER INFORMATION CONTACT: Members of the public who wish to obtain further information concerning this meeting may contact Mr. Thomas O. Miller, Designated Federal Officer (DFO), by mail at EPA SAB Staff Office (1400F), U.S. EPA, 1200 Pennsylvania Avenue, NW., Washington, DC 20460; by telephone at (202) 343-9982; by fax at (202) 233-0643; or by e-mail at: miller.tom@epa.gov. General information concerning the SAB can be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The purpose of this meeting will be to allow the SAB to discuss with Agency representatives future research priorities of importance to the achievement of EPA's mission to protect human health and the environment. If any other topics are added to the agenda, they will be reflected in the meeting agenda that will be available on the SAB Web site at: http://www.epa.gov/sab (under “Meeting Agendas”) in advance of the meeting.

Availability of Meeting Materials: Materials in support of this meeting will be placed on the SAB Web site at: http://www.epa.gov/sab/ in advance of this meeting.

Procedures for Providing Public Input: Interested members of the public may submit relevant written or oral information for the SAB to consider during the advisory process.

Oral Statements: In general, individuals or groups requesting an oral presentation at a public meeting will be limited to five minutes per speaker, with no more than a total of one hour for all speakers. Interested parties should contact Mr. Miller, DFO, at the contact information noted above, by February 28, 2006, to be placed on the public speaker list for the March 2, 2006 meeting.

Written Statements: Written statements should be received in the SAB Staff Office by February 28, 2006, so that the information may be made available to the SAB for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Meeting Access: For information on access or services for individuals with disabilities, please contact Mr. Thomas O. Miller at 202-343-9982 or miller.tom@epa.gov. To request accommodation of a disability, please contact Mr. Miller, preferably at least 10 days prior to the meeting to give EPA as much time as possible to process your request.

Dated: February 9, 2006.
Anthony Maciorowski,
Associate Director for Science, EPA Science Advisory Board Staff Office.

[FR Doc. E6-2144 Filed 2-14-06; 8:45 am]

BILLING CODE 6560-50-P]